SMALL BUSINESS ADMINISTRATION

[Disaster Declaration #17616 and #17617; ARIZONA Disaster Number AZ-00086]

Presidential Declaration Amendment of a Major Disaster for Public Assistance Only for the State of Arizona

AGENCY: U.S. Small Business Administration.

ACTION: Amendment 1.

SUMMARY: This is an amendment of the Presidential declaration of a major disaster for Public Assistance Only for the State of Arizona (FEMA-4668-DR), dated 09/02/2022.

Incident: Severe Storms.

Incident Period: 07/17/2022 through 07/18/2022.

DATES: Issued on 10/21/2022.

Physical Loan Application Deadline Date: 11/03/2022.

Economic Injury (EIDL) Loan Application Deadline Date: 06/02/2023.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for Private Non-Profit organizations in the State of Arizona, dated 09/02/2022, is hereby amended to extend the deadline for filing applications for physical damage as a result of this disaster to 11/03/2022.

All other information in the original declaration remains unchanged.

(Catalog of Federal Domestic Assistance Number 59008)

Rafaela Monchek,
Acting Associate Administrator for Disaster Assistance.

[FR Doc. 2022-23704 Filed 10-31-22; 8:45 am]

BILLING CODE 8026-09-P